NUCLEAR REGULATORY COMMISSION

10 CFR Part 170

RIN 3150-AG08

Revision of Fee Schedules; 100 Percent Fee Recovery, FY 1999: Correction

AGENCY: Nuclear Regulatory Commission.

ACTION: Final rule; correction.

SUMMARY: On July 20, 1999 (64 FR 38816), the NRC published a document that corrected a final rule that appeared in the Federal Register on June 10, 1999 (64 FR 31448) concerning the licensing, inspection, and annual fees charged to its applicants and licensees in compliance with the Omnibus Budget Reconciliation Act of 1990. This document corrects an inadvertent typographical error in the July 20, 1999, correction document.

EFFECTIVE DATE: August 9, 1999.

FOR FURTHER INFORMATION CONTACT: Glenda Jackson, Office of the Chief Financial Officer, U.S. Nuclear Regulatory Commission, Washington, DC 20555-0001, Telephone 301-415-6057.

SUPPLEMENTARY INFORMATION: In the final rule correction, FR Doc. 99-18469, published on July 20, 1999 (64 FR 38816), in the third column on page 38816, instruction number 3 for § 170.12 is corrected to read as follows:

3. On page 31470, in the first column, paragraphs (b)(7)(ii) and (b)(7)(iii) are redesignated as paragraphs (b)(7)(ii)(B) and (b)(7)(ii)(C), respectively, and a new paragraph (b)(7)(ii)(A) is added to read as follows:

§ 170.12 Payment of fees.

* * * * *

(b) * * *

(7) * * *

(ii)(A) In the case of a design which has been approved but not certified and for which no application is pending, if the design is not referenced, or if all costs are not recovered within five years after the date of the preliminary design approval (PDA), or the final design approval (FDA), the applicant shall pay the costs, or remainder of those costs, at that time.

* * * * *

Dated at Rockville, Maryland, this 24th day of February, 2000.
For the Nuclear Regulatory Commission.
Michael T. Lesar,
Federal Register Liaison Officer.

[FR Doc. 00-4882 Filed 3-1-00; 8:45 am]

BILLING CODE 7590-01-P